DEPARTMENT OF ENERGY

Federal Energy Regulatory Commission

Combined Notice of Filings #1

July 13, 2010.

Take notice that the Commission received the following exempt wholesale generator filings:

Docket Numbers: EG10-51-000.

Applicants: Laredo Ridge Wind, LLC.

Description: Self-Certification of EWG status of Laredo Ridge Wind, LLC.

Filed Date: 07/12/2010.

Accession Number: 20100712-5167.

Comment Date: 5 p.m. e.t. on Monday, August 2, 2010.

Take notice that the Commission received the following electric rate filings:

Docket Numbers: ER01-390-009; ER99-3450-011; ER99-2769-012; ER00-2706-009; ER01-2760-008; ER10-566-003; ER08-1255-005; ER98-4515-011; ER09-1364-003; ER01-138-008; ER06-744-006; ER01-1418-012; ER02-1238-012; ER03-28-006; ER03-398-013; ER09-1488-002; ER02-1884-011.

Applicants: Chandler Wind Partners, LLC, Foote Creek II, LLC, Foote Creek IV, LLC, Ridge Crest Wind Partners, LLC, Oak Creek Wind Power, LLC, Delta Person Limited Partnership, Waterside Power LLC, Michigan Power Limited Partnership, Sabine Cogen LP, Foote Creek III, LLC, Effingham County Power, LLC, MPC Generating, LLC, Walton County Power, LLC, Washington County Power, LLC, Black Bear Hydro Partners, LLC, Coso Geothermal Power Holdings, LLC, Cadillac Renewable Energy LLC.

Description: Notice of Non-Material Change in Status of Chandler Wind Partners, LLC, et. al.

Filed Date: 07/12/2010.

Accession Number: 20100712-5166.

Comment Date: 5 p.m. e.t. on Monday, August 2, 2010.

Docket Numbers: ER07-876-002.

Applicants: Chevron Coalinga Energy Company.

Description: Chevron Coalinga Energy Co submits the Order No. 697 Compliance Filing.

Filed Date: 07/12/2010.

Accession Number: 20100712-0007.

Comment Date: 5 p.m. e.t. on Monday, August 2, 2010.

Docket Numbers: ER10-1276-001.

Applicants: Consumers Energy Company.

Description: Consumers Energy Company submits tariff filing per 35: Wholesale Market-Based Rate Tariff Providing For Sales Of Capacity And Energy to be effective 7/13/2010.

Filed Date: 07/13/2010.

Accession Number: 20100713-5017

Comment Date: 5 p.m. e.t. on Tuesday, August 3, 2010.

Docket Numbers: ER10-1342-001.

Applicants: CP Energy Marketing (US) Inc.

Description: CP Energy Marketing (US) Inc. submits tariff filing per 35: Supplemental Baseline Filing, Docket No. ER10-1342 to be effective 5/27/2010.

Filed Date: 07/13/2010.

Accession Number: 20100713-5000.

Comment Date: 5 p.m. e.t. on Tuesday, August 03, 2010.

Docket Numbers: ER10-1343-001.

Applicants: CPI Energy Services (US) LLC.

Description: CPI Energy Services (US) LLC submits tariff filing per 35: Supplemental Baseline Filing, Docket No. ER10-1343 to be effective 5/27/2010.

Filed Date: 07/13/2010.

Accession Number: 20100713-5005.

Comment Date: 5 p.m. e.t. on Tuesday, August 3, 2010.

Docket Numbers: ER10-1344-001.

Applicants: CPI USA North Carolina LLC.

Description: CPI USA North Carolina LLC submits tariff filing per 35: Supplemental Baseline Filing, Docket No. ER10-1344 to be effective 5/27/2010.

Filed Date: 07/13/2010.

Accession Number: 20100713-5001.

Comment Date: 5 p.m. e.t. on Tuesday, August 3, 2010.

Docket Numbers: ER10-1345-001.

Applicants: CPIDC, Inc.

Description: CPIDC, Inc. submits tariff filing per 35: Supplemental Baseline Filing, Docket No. ER10-1345 to be effective 5/27/2010.

Filed Date: 07/13/2010.

Accession Number: 20100713-5002.

Comment Date: 5 p.m. e.t. on Tuesday, August 3, 2010.

Docket Numbers: ER10-1346-001.

Applicants: Frederickson Power L.P.

Description: Frederickson Power L.P. submits tariff filing per 35: Supplemental Baseline Filing, Docket No. ER10-1346 to be effective 5/27/2010.

Filed Date: 07/13/2010

Accession Number: 20100713-5003.

Comment Date: 5 p.m. e.t. on Tuesday, August 03, 2010.

Docket Numbers: ER10-1348-001.

Applicants: Manchief Power Company LLC.

Description: Manchief Power Company LLC submits tariff filing per 35: Supplemental Baseline Filing, Docket No. ER10-1348 to be effective 5/27/2010.

Filed Date: 07/13/2010.

Accession Number: 20100713-5004.

Comment Date: 5 p.m. e.t. on Tuesday, August 03, 2010.

Docket Numbers: ER10-1753-000.

Applicants: Mt. Carmel Cogen, Inc.

Description: Mt. Carmel Cogen, Inc. submits tariff filing per 35.12: Mt. Carmel Cogen, Inc. MBR Tariff to be effective 7/12/2010.

Filed Date: 07/12/2010.

Accession Number: 20100712-5105.

Comment Date: 5 p.m. e.t. on Monday, August 2, 2010.

Docket Numbers: ER10-1754-000.

Applicants: American Electric Power Service Corporation.

Description: American Electric Power Corp on behalf of Kentucky Power Co submits the third revised Interconnection and local delivery service agreement.

Filed Date: 07/12/2010.

Accession Number: 20100712-0210.

Comment Date: 5 p.m. e.t. on Monday, August 2, 2010.

Docket Numbers: ER10-1755-000.

Applicants: California Independent System Operator Corporation.

Description: California Independent System Operator Corporation submits tariff filing per 35.13(a)(2)(iii): 2010-07-12 Non Generating Resource Amendment to be effective 9/10/2010.

Filed Date: 07/12/2010.

Accession Number: 20100712-5148.

Comment Date: 5 p.m. e.t. on Monday, August 2, 2010.

Docket Numbers: ER10-1756-000.

Applicants: California Independent System Operator Corporation.

Description: California Independent System Operator Corporation submits tariff filing per 35.13(a)(2)(iii): 2010-07-12 CRR Non Credit Enhancement Amendment to be effective 9/13/2010.

Filed Date: 07/12/2010.

Accession Number: 20100712-5149.

Comment Date: 5 p.m. e.t. on Monday, August 02, 2010.

Docket Numbers: ER10-1756-000.

Applicants: California Independent System Operator Corporation.

Description: California Independent System Operator Corporation submits tariff filing per: 2010-07-13 CRR Non Credit Amendment Errata to be effective 9/13/2010.

Filed Date: 07/13/2010.

Accession Number: 20100713-5068.

Comment Date: 5 p.m. e.t. on Tuesday, August 3, 2010.

Docket Numbers: ER10-1757-000.

Applicants: Florida Power Corporation.

Description: Florida Power Corporation submits tariff filing per 35.12: Baseline Cost-Based Rates Tariff of Florida Power Corporation to be effective 7/13/2010.

Filed Date: 07/13/2010.

Accession Number: 20100713-5033.

Comment Date: 5 p.m. e.t. on Tuesday, August 3, 2010.

Docket Numbers: ER10-1758-000.

Applicants: Florida Power Corporation.

Description: Florida Power Corporation submits tariff filing per 35.12: Baseline Market-Based Rates Tariff of Florida Power Corporation to be effective 7/13/2010.

Filed Date: 07/13/2010.

Accession Number: 20100713-5037.

Comment Date: 5 p.m. e.t. on Tuesday, August 3, 2010.

Docket Numbers: ER10-1759-000.

Applicants: Carolina Power & Light Company.

Description: Carolina Power & Light Company submits tariff filing per 35.12: Baseline Cost-Based Rates Tariff of Carolina Power and Light Company to be effective 7/13/2010.

Filed Date: 07/13/2010.

Accession Number: 20100713-5038.

Comment Date: 5 p.m. e.t. on Tuesday, August 3, 2010.

Docket Numbers: ER10-1760-000.

Applicants: Carolina Power & Light Company.

Description: Carolina Power & Light Company submits tariff filing per 35.12: Baseline Market-Based Rates Tariff of Carolina Power and Light Company to be effective 7/13/2010.

Filed Date: 07/13/2010.

Accession Number: 20100713-5039.

Comment Date: 5 p.m. e.t. on Tuesday, August 03, 2010

Any person desiring to intervene or to protest in any of the above proceedings must file in accordance with Rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. 2010-17734 Filed 7-20-10; 8:45 am]

BILLING CODE 6717-01-P